DEPARTMENT OF ENERGY

Federal Energy Regulatory Commission

Combined Notice of Filings #1

Take notice that the Commission received the following electric rate filings:

Docket Numbers: ER21-1115-004.

Applicants: Duke Energy Progress, LLC, Duke Energy Carolinas, LLC.

Description: Compliance filing: Duke Energy Carolinas, LLC submits tariff filing per 35: DEP-DEC—Compliance Filing—SEEMS to be effective 12/31/9998.

Filed Date: 12/8/21.

Accession Number: 20211208-5177.

Comment Date: 5 p.m. ET 12/29/21.

Docket Numbers: ER21-1128-004.

Applicants: Dominion Energy South Carolina, Inc.

Description: Compliance filing: Attachment P Compliance Filing to be effective 12/31/9998.

Filed Date: 12/8/21.

Accession Number: 20211208-5054.

Comment Date: 5 p.m. ET 12/29/21.

Docket Numbers: ER21-1650-001.

Applicants: ISO New England Inc., NSTAR Electric Company.

Description: Compliance filing: ISO New England Inc. submits tariff filing per 35: NSTAR, Docket No. ER21-1650 Amended Order No. 864 Compliance Filing to be effective 1/1/2020.

Filed Date: 12/8/21.

Accession Number: 20211208-5142.

Comment Date: 5 p.m. ET 12/20/21.

Docket Numbers: ER21-1654-001.

Applicants: ISO New England Inc., The Connecticut Light and Power Company.

Description: Compliance filing: ISO New England Inc. submits tariff filing per 35: CL&P; Docket No. ER21-1654 Amended Order No. 864 Compliance Filing to be effective 1/1/2020.

Filed Date: 12/8/21.

Accession Number: 20211208-5155.

Comment Date: 5 p.m. ET 12/29/21.

Docket Numbers: ER22-565-000.

Applicants: Allegheny Electric Cooperative, Inc.

Description: Request of Allegheny Electric Cooperative, Inc. for Waiver.

Filed Date: 12/2/21.

Accession Number: 20211202-5277.

Comment Date: 5 p.m. ET 12/13/21.

Docket Numbers: ER22-576-000.

Applicants: NextEra Energy Transmission Southwest, LLC.

Description: Application for Authorization for Abandoned Plant Incentive Rate Treatment of NextEra Energy Transmission Southwest, LLC.

Filed Date: 12/6/21.

Accession Number: 20211206-5258.

Comment Date: 5 p.m. ET 12/27/21.

Docket Numbers: ER22-577-000.

Applicants: Southwest Power Pool, Inc.

Description: § 205(d) Rate Filing: 3856, 3857, 3858 East River Power Coop Sponsored Upgrade Agreements to be effective 11/23/2021.

Filed Date: 12/8/21.

Accession Number: 20211208-5059.

Comment Date: 5 p.m. ET 12/29/21.

Docket Numbers: ER22-578-000.

Applicants: PJM Interconnection, L.L.C.

Description: § 205(d) Rate Filing: Amendment to ISA/CSA Nos. 4810 & 4811; Queue No. AA2-103 to be effective 9/27/2017.

Filed Date: 12/8/21.

Accession Number: 20211208-5064.

Comment Date: 5 p.m. ET 12/29/21.

Docket Numbers: ER22-579-000.

Applicants: Verso Luke LLC.

Description: Tariff Amendment: Verso Luke LLC Cancellation of MBR Tariff Filing to be effective 12/9/2021.

Filed Date: 12/8/21.

Accession Number: 20211208-5067.

Comment Date: 5 p.m. ET 12/22/21.

Docket Numbers: ER22-580-000.

Applicants: Tri-State Generation and Transmission Association, Inc.

Description: § 205(d) Rate Filing: Amendment to Rate Schedule No. 69 to be effective 2/7/2022.

Filed Date: 12/8/21.

Accession Number: 20211208-5075.

Comment Date: 5 p.m. ET 12/29/21.

Docket Numbers: ER22-581-000.

Applicants: Midcontinent Independent System Operator, Inc., Great River Energy.

Description: § 205(d) Rate Filing: Midcontinent Independent System Operator, Inc. submits tariff filing per 35.13(a)(2)(iii): 2021-12-08_SA 3756 GRE-OTP Detroit Lakes to Frazee T-T to be effective 12/9/2021.

Filed Date: 12/8/21.

Accession Number: 20211208-5077.

Comment Date: 5 p.m. ET 12/29/21.

Docket Numbers: ER22-582-000.

Applicants: Basin Creek Equity Partners, L.L.C.

Description: § 205(d) Rate Filing: Revised Market-Based Rate Tariff to be effective 12/9/2021.

Filed Date: 12/8/21.

Accession Number: 20211208-5132.

Comment Date: 5 p.m. ET 12/29/21.

Docket Numbers: ER22-583-000.

Applicants: Bayswater Peaking Facility, LLC.

Description: § 205(d) Rate Filing: Revised Market-Based Rate Tariff to be effective 12/9/2021.

Filed Date: 12/8/21.

Accession Number: 20211208-5133.

Comment Date: 5 p.m. ET 12/29/21.

Docket Numbers: ER22-584-000.

Applicants: Forked River Power LLC.

Description: § 205(d) Rate Filing: Revised Market-Based Rate Tariff to be effective 12/9/2021.

Filed Date: 12/8/21.

Accession Number: 20211208-5136.

Comment Date: 5 p.m. ET 12/29/21.

Docket Numbers: ER22-585-000.

Applicants: Jamaica Bay Peaking Facility, LLC.

Description: § 205(d) Rate Filing: Revised Market-Based Rate Tariff to be effective 12/9/2021.

Filed Date: 12/8/21.

Accession Number: 20211208-5143.

Comment Date: 5 p.m. ET 12/29/21.

Docket Numbers: ER22-586-000.

Applicants: MPH Rockaway Peakers, LLC.

Description: § 205(d) Rate Filing: Revised Market-Based Rate Tariff to be effective 12/9/2021.

Filed Date: 12/8/21.

Accession Number: 20211208-5145.

Comment Date: 5 p.m. ET 12/29/21.

Docket Numbers: ER22-587-000.

Applicants: Pittsfield Generating Company, L.P.

Description: § 205(d) Rate Filing: Revised Market-Based Rate Tariff to be effective 12/9/2021.

Filed Date: 12/8/21.

Accession Number: 20211208-5146.

Comment Date: 5 p.m. ET 12/29/21.

Docket Numbers: ER22-588-000.

Applicants: Waterbury Generation LLC.

Description: § 205(d) Rate Filing: Revised Market-Based Rate Tariff to be effective 12/9/2021.

Filed Date: 12/8/21.

Accession Number: 20211208-5150.

Comment Date: 5 p.m. ET 12/29/21.

Docket Numbers: ER22-589-000.

Applicants: PacifiCorp.

Description: Tariff Amendment: Termination of BPA Agmt to Replace BPA CB 1L1 at Malin to be effective 2/28/2022.

Filed Date: 12/8/21.

Accession Number: 20211208-5159.

Comment Date: 5 p.m. ET 12/29/21.

Docket Numbers: ER22-590-000.

Applicants: Midcontinent Independent System Operator, Inc., Ameren Illinois Company.

Description: § 205(d) Rate Filing: Midcontinent Independent System Operator, Inc. submits tariff filing per 35.13(a)(2)(iii): 2021-12-08_SA 3758 Ameren Illinois-Moraine Sands Wind Power E&P (J1453) to be effective 11/24/2021.

Filed Date: 12/8/21.

Accession Number: 20211208-5183.

Comment Date: 5 p.m. ET 12/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2021.
Debbie-Anne A. Reese,
Deputy Secretary.

[FR Doc. 2021-27064 Filed 12-14-21; 8:45 am]

BILLING CODE 6717-01-P